DEPARTMENT OF HEALTH AND HUMAN SERVICES

Centers for Disease Control and Prevention

Disease, Disability, and Injury Prevention and Control Special Emphasis Panel: State Fatality Surveillance and Field Investigations of Occupational Injuries: Fatality Assessment and Control Evaluation, RFA CC-02-012

In accordance with section 10(a)(2) of the Federal Advisory Committee Act (Public Law 92-463), the Centers for Disease Control and Prevention (CDC) announces the following meeting:

Name: Disease, Disability, and Injury Prevention and Control Special Emphasis Panel (SEP): State Fatality Surveillance and Field Investigations of Occupational Injuries: Fatality Assessment and Control Evaluation (FACE), RFA CC-02-012.

Times and Dates: 8:30 a.m.-8:30 a.m., March 15, 2002 (Open), 9 a.m.-5 p.m., March 15, 2002 (Closed).

Place: Hotel Washington, 515 15th Street, NW., Washington DC 20004-2099.

Status: Portions of the meeting will be closed to the public in accordance with provisions set forth in section 552b(c) (4) and (6), Title 5 U.S.C., and the Determination of the Director, Management Analysis and Services Office CDC, pursuant to Public Law 92-463.

Matters to be Discussed: The meeting will include the review, discussion, and evaluation of applications received in response to RFA CC-02-012.

FOR MORE INFORMATION CONTACT: Gwendolyn H. Cattledge, Ph.D., Health Science Administrator, National Institute for Occupational Safety and Health, CDC, 1600 Clifton Road, NE, M/S E74, telephone (404) 498-2508.

The Director, Management Analysis and Services Office has been delegated the authority to sign Federal Register notices pertaining to announcements of meetings and other committee management activities, for both the Centers for Disease Control and Prevention and the Agency for Toxic Substances and Disease Registry.

Dated: February 20, 2002.
Alvin Hall,
Acting Director, Management Analysis and Services Office, Centers for Disease Control and Prevention (CDC).

[FR Doc. 02-4507 Filed 2-25-02; 8:45 am]

BILLING CODE 4163-19-P